DEPARTMENT OF STATE

[Public Notice: 12804]

Bureau of Political-Military Affairs; Rescission of Statutory Debarment of Dominick DeQuarto, Under the International Traffic in Arms Regulations

ACTION: Notice.

SUMMARY: Notice is hereby given that the Department of State has rescinded the statutory debarment of Dominick DeQuarto, included in Federal Register (FR) notice of May 20, 2020 (85 FR 30783).

FOR FURTHER INFORMATION CONTACT: Jae Shin, Director, Office of Defense Trade Controls Compliance, Bureau of Political-Military Affairs, Department of State: ShinJE@state.gov, (202) 663-2737.

SUPPLEMENTARY INFORMATION: Section 38(g)(4) of the Arms Export Control Act (AECA), 22 U.S.C. 2778(g)(4), prohibits the issuance of licenses or other approvals for the export of defense articles or defense services where the applicant, or any party to the export, has been convicted of violating the AECA and other U.S. statutes enumerated in § 38(g)(1) of the AECA, or if that person, or any party to the export, is ineligible to receive export licenses (or other forms of authorization to export) from any agency of the United States Government subject to a narrowly defined statutory exception. In addition, § 127.7(b) of the International Traffic in Arms Regulations (ITAR) provides for the statutory debarment of any person who has been convicted of violating or conspiring to violate the AECA. As stated in this provision of the ITAR, it is the policy of the Department not to consider applications for licenses or requests for approvals involving any person who has been statutorily debarred. Persons subject to statutory debarment are prohibited from participating directly or indirectly in any activities that are subject to the ITAR.

Dominick DeQuarto pleaded guilty to conspiring to violate the AECA, and the Department notified the public of his statutory debarment, imposed pursuant to ITAR § 127.7(c), in Federal Register (FR) 85 FR 30783, May 20, 2020, corrected by 85 FR 39967 on July 2, 2020. The FR notice provided that Dominick DeQuarto (whose last name was spelled as Dequarto in both FR notices) was “. . . prohibited from participating directly or indirectly in activities regulated by the ITAR, including any brokering activities and any export from or temporary import into the United States of defense articles, technical data, or defense services in all situations covered by the ITAR.”

In accordance with ITAR § 127.7(b), the debarred person must submit a request for reinstatement to the Department of State and be approved for reinstatement before engaging in any activities subject to the ITAR. The Department received such a request for reinstatement from Dominick DeQuarto. The Department has conducted a thorough review of the circumstances surrounding Dominick DeQuarto's convictions and has determined that he has taken appropriate steps to address the causes of the violations sufficient to warrant rescission of his statutory debarment. Therefore, pursuant to ITAR § 127.7(b), the Department determines it is no longer in the national security and foreign policy interests of the United States to maintain the policy as applied to Dominick DeQuarto, and the Department hereby rescinds Dominick DeQuarto's statutory debarment as published in 85 FR 30783, May 20, 2020, and the corrected FR notice 85 FR 39967, dated July 2, 2020.

The Department notes that 85 FR 39967 also states: Department of State policy permits debarred persons to apply to the Director, Office of Defense Trade Controls Compliance, for reinstatement from statutory debarment beginning one year after the date of the debarment. In response to a request for reinstatement from statutory debarment, the Department may determine either to rescind only the statutory debarment pursuant to § 127.7(b), or to both rescind the statutory debarment pursuant to § 127.7(b) and reinstate export privileges as described in § 127.11 of the ITAR. See 84 FR 7411 for discussion on the Department's policy regarding actions to both rescind the statutory debarment and reinstate export privileges. However, the reinstatement of export privileges can be made only after the statutory requirements of section 38(g)(4) of the AECA have been satisfied.

This notice rescinds the statutory debarment of Dominick DeQuarto but does not provide notice of reinstatement of export privileges for Dominick DeQuarto pursuant to the statutory requirements of § 38(g)(4) of the AECA and ITAR § 127.11. And as required by the AECA, the Department may not issue a license directly to Dominick DeQuarto except as may be determined on a case-by-case basis after interagency consultations, a thorough review of the circumstances surrounding the conviction, and a finding that appropriate steps have been taken to mitigate any law enforcement concerns. Any determination by the Department regarding the reinstatement of export privileges for Dominick DeQuarto will be made in accordance with these statutory and regulatory requirements and will be the subject of a separate notice. All otherwise eligible persons may engage in exports of any of Dominick DeQuarto's manufactured defense articles, incorporate any of Dominick DeQuarto's manufactured items into defense articles for export, or otherwise engage in transactions subject to the ITAR without providing prior written notification of Dominick DeQuarto's involvement as otherwise required by ITAR § 127.1(d) and the transaction exception requirements of the Federal Register notice of statutory debarment.

Brent T. Christensen,
Senior Official, performing the functions of the Under Secretary, Arms Control and International Security, Department of State.

[FR Doc. 2025-16231 Filed 8-22-25; 8:45 am]

BILLING CODE 4710-25-P